DEPARTMENT OF ENERGY

Federal Energy Regulatory Commission

[Project No. 12711-003]

Ocean Renewable Power Company, LLC; Notice Concluding Pre-Filing Process and Approving Process Plan And Schedule

a. Type of Filing: Notice of Intent to File Application for License for a Hydrokinetic Pilot Project.

b. Project No.: 12711-003.

c. Dated Filed: July 24, 2009.

d. Submitted By: Ocean Renewable Power Company, LLC.

e. Name of Project: Cobscook Bay Tidal Energy Project.

f. Location: In Cobscook Bay, in Washington County, Maine. The project would not occupy federal lands.

g. Filed Pursuant to: 18 CFR 5.3 and 5.5 of the Commission's regulations.

h. Applicant Contact: Christopher R. Sauer, Ocean Renewable Power Company, LLC, 120 Exchange Street, Suite 508, Portland, Maine 04101, (207) 772-7707.

i. FERC Contact: Timothy Konnert (202) 502-6359.

j. Ocean Renewable Power Company, LLC (ORPC) has filed with the Commission: (1) A notice of intent (NOI) to file an application for a pilot hydrokinetic hydropower project and a draft license application with monitoring plans; (2) a request for waivers of certain Integrated Licensing Process (ILP) regulations necessary for expedited processing of a license application for a hydrokinetic pilot project; (3) a proposed process plan and schedule; and (4) a request to be designated as the non-federal representative for section 7 of the Endangered Species Act consultation and for section 106 consultation under the National Historic Preservation Act.

k. A notice was issued on August 7, 2009, soliciting comments on the draft license application from agencies and stakeholders. Comments were filed by federal and state agencies, and non-governmental organizations. No comments were filed opposing the request to waive the ILP regulations or the proposed process plan and schedule.

l. ORPC was designated as the non-federal representative for section 7 of the Endangered Species Act consultation and for section 106 consultation under the National Historic Preservation Act on August 7, 2009.

m. ORPC proposes a two-phased development approach for the Cobscook Bay Tidal Energy Project. The project would consist of: (1) A single 5-meter-diameter axial flow Kinetic System turbine generator unit (TGU) mounted on a triframe mount, with a rated capacity of 60 kilowatts (kW), in Phase 1; (2) four 5-meter-diameter axial flow Kinetic System TGUs mounted on triframe mounts, with a rated capacity of 60 kW each, in Phase 2; (3) a direct current power and data cable approximately 3,800 feet long (3,600 feet underwater and 200 feet on shore) extending from the TGUs to the onshore station house; (4) an on-shore building 32 feet wide by 35 feet long, housing the SatCon power inverter and the supervisory control and data acquisition (SCADA) system; and (5) appurtenant facilities for navigation safety and operation. The project would have a total rated capacity of 300 kW, with an estimated annual generation between 1,200,000 and 1,300,000 kilowatt-hours.

n. The pre-filing process has been concluded and the requisite regulations have been waived such that the process and schedule indicated below can be implemented.

o. Post-filing process schedule. The post-filing process will be conducted pursuant to the following schedule. Revisions to the schedule may be made as needed.

Milestones | Dates
Final license application expected | August 31, 2011.
Issue notice of acceptance and ready for environmental analysis and request for interventions | September 15, 2011.
Issue biological assessment | September 15, 2011.
Recommendations, conditions, comments and interventions due | October 15, 2011.
Issue notice of availability of environmental assessment | December 14, 2011.
Comments due and 10(j) resolution, if needed | January 13, 2011.

p. Register online at http://ferc.gov/esubscribenow.htm to be notified via e-mail of new filing and issuances related to this or other pending projects. For assistance, contact FERC Online Support.

Dated: July 12, 2011.
Kimberly D. Bose,
Secretary.

[FR Doc. 2011-17992 Filed 7-15-11; 8:45 am]

BILLING CODE 6717-01-P